DEPARTMENT OF HEALTH AND HUMAN SERVICES

Centers for Disease Control and Prevention

[30Day-19-18APX]

Agency Forms Undergoing Paperwork Reduction Act Review

In accordance with the Paperwork Reduction Act of 1995, the Centers for Disease Control and Prevention (CDC) has submitted the information collection request titled Dental Survey: Improving Outpatient Antibiotic Use through Implementation and Evaluation of Core Elements of Outpatient Antibiotic Stewardship to the Office of Management and Budget (OMB) for review and approval. CDC previously published a “Proposed Data Collection Submitted for Public Comment and Recommendations” notice on August 10, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Dental Survey: Improving Outpatient Antibiotic Use through Implementation and Evaluation of Core Elements of Outpatient Antibiotic Stewardship—New—Information Collection—National Center for Emerging and Zoonotic Infectious Diseases (NCEZID), Centers for Disease Control and Prevention (CDC).

Background and Brief Description

Antibiotic resistance is a growing problem that has been shown to be a result of wide-spread antibiotic use and misuse. While efforts to improve antibiotic use to date have been primarily implemented in the inpatient setting, the majority of antibiotics are prescribed in the outpatient setting. Up to 50% of all antibiotics prescribed for acute respiratory tract infections (ARI) are proposed to be inappropriate. Interventions that have been demonstrated to decrease inappropriate use include audit-and-feedback, academic detailing, clinical decision support systems (CDSS), provider-focused public commitments to reduce inappropriate antibiotic use, and delayed antibiotic prescriptions. However, current data is limited due to short study time-frames and lack of sustainability.

In a pilot project, phone interviews were conducted with six dental providers and three pediatricians; specifically those who could speak to the knowledge, attitudes and behaviors of their peers. PRA was deemed not applicable by the NCEZID PRA representative for this pilot. We identified six dental providers that were recruited for a phone interview with our team's healthcare psychologist. Semi-structured interviews were used to assess: (1) Knowledge about antibiotic prescribing (what constitutes appropriate and inappropriate prescribing); (2) the providers current antibiotic prescribing practices; (3) beliefs about the consequences of inappropriate and appropriate prescribing (e.g., consequences for the provider, for individual patients, and for the healthcare system); (4) attitudes about antibiotic prescribing (expected negative and positive reactions to appropriate prescribing); (5) subjective norms (beliefs related to what is “normal” antibiotic prescribing for the provider and for peers); (6) control beliefs related to appropriate prescribing (factors that make appropriate prescribing easy or difficult, e.g., barriers); and (7) future planned behaviors along with perceived solutions to promote appropriate antibiotic prescribing.

During the analysis of the six dental interviews it was determined by the team that these interviews contained very unique information in terms of knowledge, attitudes and behaviors compared to other non-dental providers. Therefore, it was also determined that information saturation was not reached during this first data collection phase. We want to continue our data collection efforts within this specific population. This information will be crucial in future design of scalable and sustainable outpatient antibiotic stewardship interventions that incorporate all Core Elements of Outpatient Antibiotic Stewardship and to be able to implement it across a network of dental outpatient facilities.

There will be no anticipated costs to respondents other than their time. The survey will be voluntary and will be distributed within University of Utah dental clinics. Potential participants will be contacted via email informing them about the purpose of the survey. Participants would have the option of performing the survey online through an approved University of Utah survey platform (i.e. REDCap or Qualtrics) or on paper format if they prefer. To help increase response rate, paper formats may be distributed during dental staff meetings or any other gatherings within this population. Total burden hours being requested is 77.

Estimated Annualized Burden Hours
Type of respondents | Form name | Number of respondents | Number of responses per respondent | Average burden per response (in hrs.)
Dental Providers | Recruitment during meetings | 155 | 1 | 10/60
Dental Providers | SHEPheRD Outpatient Dental Survey | 25 | 1 | 30/60
Dental Providers | Dental Survey—CDC Outpatient SEPheRD—Practices and Experiences with Antibiotic Prescribing | 75 | 1 | 30/60

Jeffrey M. Zirger,
Lead, Information Collection Review Office, Office of Scientific Integrity, Office of Science, Centers for Disease Control and Prevention.

[FR Doc. 2019-05553 Filed 3-22-19; 8:45 am]

BILLING CODE 4163-18-P